DEPARTMENT OF TRANSPORTATION

Research and Special Programs Administration

Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” denote a modification request. There applications have been separated from the new application for exemption to facilitate processing.

DATES: Comments must be received on or before March 30, 2005.

Address Comments To: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with part 107 of the Federal hazardous materials transportation law (49 U.S.C. 5117(b); 49 CFR 1.53(b)).

Issued in Washington, DC, on March 9, 2005.
R. Ryan Posten,
Exemptions Program Officer, Office of Hazardous Materials Exemptions & Approvals.

Modification Exemptions
Application No. | Docket No. | Applicant | Regulation(s) affected | Modification of exemption | Nature of exemption thereof
7465-M |  | State of Alaska Department of Transportation & Public Facilities, Juneau, AK | 49 CFR part 172; 173.220 | 7465 | To modify the exemption to authorize the addition of a new ferry vessel to the existing passenger ferry fleet.
7928-M |  | State of Alaska Department of Transportation & Public Facilities, Juneau, AK | 49 CFR part 172.101; 176.905(L) | 7928 | To modify the exemption to authorize the addition of a new ferry vessel to the existing passenger ferry fleet.
9659-M |  | Kaiser Compositek Inc. Brea, CA | 49 CFR 173.302a(a)(1); 173.304a(a), (d); 175.3; 177.812 | 9659 | To modify the exemption to authorize a design change of the non-Dot specification fiber reinforced plastic (FRP) full wrapped composite cylinder transporting Division 2.1 and Division 2.2 materials.
9830-M |  | Worthington Cylinder Corporation, Columbus, OH | 49 CFR 173.201; 173.202; 173.203; 173.302a(a); 173.304a(a) & (d); 175.3 | 9830 | To modify the exemption to authorize the transportation of certain Class 8 materials in non-DOT specification steel cylinders by motor vehicle only.
10590-M |  | ITW/SEXTON (formerly Sexton Can Company, Inc.), Decatur, AL | 49 CFR 173.304a(d)(3)(ii); 178.33 | 10590 | To modify the exemption to authorize a design change to the nonrefillable, non-DOT specification, inside container and the transportation of a Class 3 and additional Division 2.1 material.
11606-M |  | Safety-Kleen Systems, Inc., Humble, TX | 49 CFR 173.28(b)(2) | 11606 | To modify the exemption to authorize the transportation of an additional Division 6.1 and Class 8 material in UN Standard 1A1 and 1A2 drums and non-DOT specification metal drums.
12844-M | RSPA-01-10753 | Delphi Automotive Systems, Vandalia, OH | 49 CFR 173.301(a)(1); 173.302a(a); 175.3 | 12844 | To modify the exemption to authorize an increase of the maximum service pressure to 7,200 psig for the non-DOT specification pressure vessels.
12995-M | RSPA-02-12220 | Dow Chemical Company, Midland, MI | 49 CFR 173.306(a)(3)(v) | 12995 | To modify the exemption to authorize the use of the DOT 2Q specification container with an increased container pressure not to exceed 180 psig at 55 degrees C.
13229-M | RSPA-03-15235 | Matheson Tri-Gas, East Rutherford, NJ | 49 CFR 173.304(b) | 13229 | To modify the exemption to authorize importation of phosphine in non-DOT specification cylinders.
13322-M | RSPA-03-16595 | UXB International Inc., Blacksburg, VA | 49 CFR 172.320; 173.54(a); 173.56(b); 173.58 | 13322 | To modify the exemption to authorize the transportation of liquid explosives.
13996-M | RSPA-04-19660 | North American Automotive Hazardous Material Action Committee (NAAHAC), Washington, MI | 49 CFR 173.166(e)(4) | 13996 | To reissue the exemption originally issued on an emergency basis for the transportation of airbag inflators/modules/pyrotechnic seat belt pretensioners in reusable high strength plastic or metal containers or dedicated handling devices.

[FR Doc. 05-5032 Filed 3-14-05; 8:45 am]

BILLING CODE 4909-60-M